DEPARTMENT OF HOUSING AND URBAN DEVELOPMENT

[Docket No. FR-7111-N-38A]

Notice of Approved Proposed Information Collection: FHA Lender Approval, Annual Renewal, Periodic Updates and Required Reports by FHA-Approved Lenders

AGENCY: Office of the Assistant Secretary for Housing-Federal Housing Commissioner, HUD.

ACTION: Notice.

SUMMARY: In accordance with the Paperwork Reduction Act (PRA), HUD is notifying FHA-approved lenders that HUD's information collection entitled, FHA Lender Approval, Annual Renewal, Periodic Updates and Required Reports by FHA-Approved Leaders, has been approved by the Office of Management and Budget. HUD is notifying FHA-approved lenders that the final annual certification will be effective beginning with lenders that have a Fiscal Year End date of December 31, 2019.

FOR FURTHER INFORMATION CONTACT: Volky Garcia, Director, Lender Approval and Recertification Division, Office of Lender Activities and Program Compliance, Office of Single Family Housing, U.S. Department of Housing and Urban Development, 490 L'Enfant Plaza East SW, Room P3214, Washington, DC 20024-8000; email Volky.A.Garcia@hud.gov, or telephone 202-402-8229. This is not a toll-free number. Persons with hearing or speech impairments may access this number through TTY by calling the toll-free Federal Relay Service at 800-877-8339.

SUPPLEMENTARY INFORMATION: On March 12, 2019 (84 FR 8888), HUD initiated the process to renew approval of information collection 2502-0005 by publishing a 60-day notice in the Federal Register. HUD's collection sought a revision to OMB's approval of 2502-0005 that expired on August 31, 2019. Specifically, the proposed revisions aligned the recertification statements with the National Housing Act (12 U.S.C. 1701, et seq) and clarified HUD requirements. Additionally, the revisions combined multiple statements to reflect statute, regulations and Handbook and sought to remove inapplicable language in statements for Government and Investing lenders or mortgagees.

On August 14, 2019 (84 FR 40436), HUD published its 30-day notice requesting OMB approval of this information collection. In addition to its 30-day notice, HUD provided the public the opportunity to review and comment on its FHA Annual Lender Certification through its FHA Office of Single Family Housing “Drafting Table.” https://www.hud.gov/program_offices/housing/sfh/SFH_policy_drafts. HUD received positive feedback with minor suggestions regarding the proposed changes to FHA's Annual Certification. The commenters recommended that HUD: (1) Immediately implement the proposal (2) capitalize the word Sanction to align with the HUD's Single Family Housing Handbook 4000.1 and (3) add language at the end of the statements clarifying the redisclosure of previous issues reported to HUD during a Mortgagees certification period. In response to the feedback and recommendations, HUD developed a streamlined FHA Annual Lender Certification which is available at https://www.hud.gov/program_offices/housing/sfh/lender/approvals_renewals/sfh_recertification. Today's notice announces that OMB has provided its Notice of Action approving HUD's collection.

FHA approves entities to participate as FHA-approved lenders. Specific information must be obtained and reviewed to determine if an entity meets the criteria to obtain the requested approval. HUD's submission covers information required by FHA from approved lenders to renew and maintain their approval, make periodic updates to their approval, submit required reports to FHA and submit requests to voluntarily terminate their FHA approval.

As approved collections, FHA-approved lenders are now required to use the revised FHA Lender Approval, Annual Renewal, Periodic Updates and Required Reports by FHA-Approved Lenders information collection. As a result, FHA-approved lenders that have a Fiscal Year End date of December 31, 2019 will be required to use HUD's revised collection.

Dated: October 21, 2019.
John L. Garvin,
General Deputy Assistant Secretary, Office of Housing.

[FR Doc. 2019-23241 Filed 10-24-19; 8:45 am]

BILLING CODE 4210-67-P